ENVIRONMENTAL PROTECTION AGENCY

[FRL-9903-81-Region-3]

Adequacy Status of the West Virginia Portion of the Steubenville-Weirton, WV-OH Nonattainment Area Submitted for the 1997 Fine Particulate Matter Standard Redesignation Request and Maintenance Plan for Transportation Conformity Purposes

AGENCY: Environmental Protection Agency (EPA).

ACTION: Notice of adequacy.

SUMMARY: In this notice, EPA is notifying the public that we have made insignificance findings through the transportation conformity adequacy process, under the Clean Air Act (CAA), for directly emitted fine particulate matter (PM2.5) and nitrogen oxides (NOX) in the West Virginia portion of the Steubenville-Weirton, WV-OH 1997 PM2.5 national ambient air quality standard (NAAQS) nonattainment area. West Virginia submitted the insignificance findings with the redesignation request and maintenance plan submittal on April 13, 2012. As a result of EPA's findings, the West Virginia portion of the Steubenville-Weirton, WV-OH nonattainment area is no longer required to perform a regional emissions analysis for directly emitted PM2.5, or NOx, as part of future PM2.5 conformity determinations for the 1997 annual PM2.5 air quality standard.

DATES: Effective on December 19, 2013.

FOR FURTHER INFORMATION CONTACT: Gregory Becoat, Environmental Scientist, Office of Air Quality Planning, United States Environmental Protection Agency, Region III, 1650 Arch Street, Philadelphia, PA 19103, (215) 814-2036; becoat.gregory@epa.gov

SUPPLEMENTARY INFORMATION: Today's notice is simply an announcement of a finding that EPA has already made. EPA Region III sent a letter to the West Virginia Department of Environmental Protection on September 25, 2013 stating that EPA has made insignificance findings, through the adequacy process, for PM2.5 and NOX for the West Virginia Portion of the Steubenville-Weirton, WV-OH 1997 PM2.5 NAAQS nonattainment area, as the State had requested in its redesignation and maintenance plan submittal. Receipt of the submittal was announced on EPA's transportation conformity Web site. No comments were received. The findings letter is available at EPA's conformity Web site: http://www.epa.gov/otaq/stateresources/transconf/adequacy.htm.

Transportation conformity is required by section 176(c) of the CAA. EPA's conformity rule requires that transportation plans, transportation improvement programs, and projects conform to state air quality implementation plans (SIPs) and establishes the criteria and procedures for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). EPA described the process for determining the adequacy of submitted SIP budgets in a July 1, 2004 preamble starting at 69 FR 40038 and used the information in these resources in making this adequacy determination. Please note that an adequacy review is separate from EPA's completeness review, and should not be used to prejudge EPA's ultimate approval action for the SIP. Even if EPA finds a budget adequate, the SIP could later be disapproved.

The finding and the response to comments are available at EPA's conformity Web site: http://www.epa.gov/otaq/stateresources/transconf/adequacy.htm.

Authority: 42 U.S.C. 7401-7671q.

Dated: November 15, 2013.
W.C. Early,
Acting Regional Administrator, Region III.

[FR Doc. 2013-28981 Filed 12-3-13; 8:45 am]

BILLING CODE 6560-50-P